DEPARTMENT OF TRANSPORTATION

Federal Highway Administration

Federal Railroad Administration

Environmental Impact Statement: New York, NY

AGENCIES: Federal Highway Administration (FHWA), Federal Railroad Administration (FRA), DOT.

ACTION: Notice of intent.

SUMMARY: The FHWA and FRA are issuing this Notice to advise the public that an environmental impact statement will be prepared for a cross harbor freight improvement proposal in Kings (Brooklyn) and Richmond (Staten Island) Counties in New York and Hudson County (Jersey City) in New Jersey.

FOR FURTHER INFORMATION CONTACT: Ms. Alice Cheng, Director, Intermodal Planning, New York City Economic Development Corporation, 110 William Street-6th Floor, New York, NY 10038, Telephone (212) 619-5000, email “acheng@nyedc.com”; or Richard E. Backlund, Intermodal Transportation Coordinator, Federal Highway Administration, New York Division, One Bowling Green, Room 428, New York, NY 10004-1415, Telephone (212) 668-2205, email “Richard.Backlund@fhwa.dot.gov”; or Michael Saunders, Northeast Corridor Program Manager, Federal Railroad Administration, 628-2 Hebron Avenue, Suite 303, Glastonbury, Connecticut 06033-5007, Telephone (860) 659-6714, email “Michael.Saunders@fhwa.dot.gov”.

SUPPLEMENTARY INFORMATION: The FHWA and FRA, in cooperation with the New York City Economic Development Corporation (NYCEDC), will prepare an environmental impact statement (EIS) on a proposal to improve rail freight operations across upper New York harbor between the States of New Jersey and New York for Jersey City in New Jersey and Brooklyn and Staten Island in New York. The proposed improvements could involve the implementation of additional rail float services in the New York harbor, no action, or the construction of a freight tunnel from the Travis branch of the Staten Island Railroad in northern Staten Island, New York, or the Greenville float yard in Jersey City, New Jersey, to the Bay Ridge rail line in Brooklyn, New York. The FHWA, FRA, and NYCEDC are participating with the U.S. Environmental Protection Agency in an environmental streamlining pilot for this EIS.

Specific alternatives under consideration include (1) taking no action; (2) an enhanced New York harbor railcar float system from the Greenville rail yard, Jersey City, New Jersey to the Bay Ridge rail line in Brooklyn, New York; (3) a freight rail tunnel from the Travis branch of the Staten Island Railroad, Staten Island, New York to the Bay Ridge rail line in Brooklyn, New York; (4) a freight rail tunnel from the Greenville rail yard, Jersey City, New Jersey to the Bay Ridge rail line, Brooklyn, New York.

Letters describing the proposed action and soliciting comments will be sent to appropriate Federal, State and local agencies, elected officials, community organizations, and to private organizations and citizens who have previously expressed interest in this proposal. A series of public meetings, to be advertised in the local media, will be held in Brooklyn, Staten Island and Manhattan in New York and in Hudson County, New Jersey regarding this proposal.

The public will be invited to participate in the scoping process, review the draft EIS, and provide input at public meetings. Release of the draft EIS for public comment and the public meetings will be announced as those dates are established. It is anticipated that the EIS study process will take approximately two years.

Comments or questions concerning this Notice of Intent and the EIS should be directed to the FHWA, FRA or NYCEDC at the addresses noted above.

Authority: 23 U.S.C. 315; 23 CFR 771.123.

Issued on: May 24, 2001.
Richard E. Backlund,
Intermodal Transportation Coordinator, Federal Highway Administration, New York, New York.

[FR Doc. 01-14374 Filed 6-6-01; 8:45 am]

BILLING CODE 4910-22-M